DEPARTMENT OF COMMERCE

International Trade Administration

Argonne National Laboratory; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave. NW., Washington, DC.

Docket Number: 12-007. Applicant: Argonne National Laboratory, 9700 South Cass Ave., Lemont, IL 60439. Instrument: Klystron. Manufacturer: Thales Components Corp., France. Intended Use: See notice at 77 FR 25960, May 2, 2012. Date of Denial without Prejudice to Resubmission: June 1, 2012. Decision: Denied. The applicant has failed to establish that domestic instruments of equivalent scientific value to the foreign instruments for the intended purposes are not available. Reasons: Section 301.5(e)(4) of the regulations requires the denial of applications that have been denied without prejudice to resubmission if they are not resubmitted within the specified time period. This is the case for the above-mentioned docket.

Dated: October 4, 2012.
Gregory W. Campbell,
Director, Subsidies Enforcement Office, Import Administration.

[FR Doc. 2012-25054 Filed 10-10-12; 8:45 am]

BILLING CODE 3510-DS-P